INTERNATIONAL TRADE COMMISSION

USITC SE-01-033

Notice of Correction

Agency Holding the Meeting: United States International Trade Commission.

Time and Date: October 12, 2001 at 11:00 a.m.

Place: Room 101, 500 E Street S.W. Washington, DC 20436. Telephone: (202) 205-2000.

Status: Open to the public.

On October 3, 2001, the Commission issued the agenda for the above referenced meeting. In that notice the Commission inadvertently announced that Commissioners' opinions concerning Carbon and Alloy Steel Wire Rod from Brazil, Canada, Egypt, Germany, Indonesia, Mexico, Moldova, South Africa, Trinidad and Tobago, Turkey, Ukraine, and Venezuela (Inv. Nos. 701-TA-417-421 and 731-TA-953-963 Preliminary) are currently scheduled to be transmitted to the Secretary of Commerce on November 2, 2001. The correct date for the Commissioners' opinions to be transmitted to the Secretary in these investigations is October 22, 2001.

Issued: October 11, 2001.
Donna R. Koehnke,
Secretary.

[FR Doc. 01-26115 Filed 10-12-01; 12:46 pm]

BILLING CODE 7020-02-P